Proclamation 10313 of November 19, 2021

National Family Week, 2021

By the President of the United States of America

A Proclamation

My father lived by a motto: that family was the beginning, the middle, and the end. During National Family Week, we celebrate American families, recognize the importance of spending time with relatives, and reaffirm our commitment to investing in our Nation's families.

From the beginning of my campaign for President, I said that my goal was to build our economy from the bottom up and the middle out and give America's hard-working families some much needed breathing room. This work is especially important, given the fact that the COVID-19 pandemic has presented so many challenges for families. Many families struggled with lost jobs or food insecurity. Before schools reopened, parents and caregivers had to take on additional responsibilities such as helping their children with online learning, many while working from home. So many of us went months without hugging a parent, grandparent, or grandchild. Far too many families said goodbye to a loved one—leaving an empty chair at the table and a hole in their hearts.

When I took office, I took immediate action to assist families through my Administration's American Rescue Plan. The American Rescue Plan has provided cash assistance to millions of working families, supported schools in safely providing in-person instruction, and delivered an expanded Child Tax Credit, which is lifting millions of children and families out of poverty. It also allowed us to implement our COVID-19 vaccination program—one of the fastest vaccination programs ever, one that is now open to all Americans ages five and up, and one that is protecting millions of families.

Now even greater progress for America's families is in sight. My Administration's Build Back Better Act and Bipartisan Infrastructure Investment and Jobs Act will further strengthen and support our Nation's families. The Bipartisan Infrastructure Investment and Jobs Act will allow us to replace lead pipes and service lines that are poisoning our children and families while the other investments in the bill will strengthen communities and create millions of good jobs. My Administration's Build Back Better Act will provide free and universal preschool, the largest investment in child care in our Nation's history, an expansion of the Affordable Care Act, and a tax cut for millions of families with children. In addition, I will continue to push for establishing a paid family and medical leave program so that no American must make the difficult choice between work and caring for themselves or a family member.

During National Family Week, we reaffirm that our Nation is stronger because of the love, compassion, and care that our families share. In this season of thanksgiving, let us continue to lift up our hard-working families and unite in support of our future generations.

NOW, THEREFORE, I, JOSEPH R. BIDEN JR., President of the United States of America, by virtue of the authority vested in me by the Constitution and the laws of the United States, do hereby proclaim November 21 through November 27, 2021, as National Family Week. I invite States, communities, and individuals to join together in observing this week with appropriate ceremonies and activities to honor our Nation's families.

IN WITNESS WHEREOF, I have hereunto set my hand this nineteenth day of November, in the year of our Lord two thousand twenty-one, and of the Independence of the United States of America the two hundred and forty-sixth.

[FR Doc. 2021-25800

Filed 11-23-21; 8:45 am]

Billing code 3395-F2-P